DEPARTMENT OF DEFENSE

Office of the Secretary

[Docket ID: DOD-2013-OS-0111]

Proposed Collection; Comment Request

AGENCY: Defense Logistics Agency, DoD.

ACTION: Notice.

SUMMARY: In compliance with Section 3506(c)(2)(A) of the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the information collection; (c) ways to enhance the quality, utility, and clarity of the information to be collected; and (d) ways to minimize the burden of the information collection on respondents, including through the use of automated collection techniques or other forms of information technology.

DATES: Consideration will be given to all comments received by July 29, 2013.

ADDRESSES: You may submit comments, identified by docket number and title, by any of the following methods:

• Federal eRulemaking Portal: http://www.regulations.gov. Follow the instructions for submitting comments.

• Mail: Federal Docket Management System Office, 4800 Mark Center Drive, 2nd Floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Logistics Agency Headquarters, ATTN: Mr. Thomas Reinard, DLA Installation Support, 8725 John J. Kingman Rd., Ft. Belvoir, VA 22060-6221; or call (703) 767-5419.

Title; Associated Form; and OMB Number: Defense Logistics Agency (DLA) Police Center Records (POLC); OMB Control Number 0704-TBD.

Needs and Uses: DLA police require an integrated police records management system, PoliceCenter (POLC), to automate and standardize all of the common record keeping functions of DLA police. POLC shall provide records management of police operations, including property, incident reports, blotters, qualifications, dispatching, and other police information management considerations. The tool will allow authorized users the capability to collect, store, and access sensitive law enforcement information gathered by Police Officers. The tool will allow DLA Police to automate many police operational functions and assist with crime rate and trend analysis. Relevant law enforcement matters include, but are not limited to; traffic accidents, illegal parking, firearms records, suspicious activity, response to calls for service, criminal activity, alarm activations, medical emergencies, witnesses, victims, or suspect in a police matter, or any other situation which warrants police contact as outlined in DoD Directives and DLA Policy.

In addition to those disclosures generally permitted under 5 U.S.C. 552a(b) of the Privacy Act of 1974, these records contained therein may specifically be disclosed outside the DoD as a routine use pursuant to 5 U.S.C. 552a(b)(3) as follows:

— To Federal, State, and local agencies having jurisdiction over or investigative interest in the substance of the investigation, for corrective action, debarment, or reporting purposes.

— To Government contractors employing individuals who are subjects of an investigation.

— To DLA contractors or vendors when the investigation pertains to a person they employ or to a product or service they provide to DoD when disclosure is necessary to accomplish or support corrective action.

Affected Public: Individuals and Households: Members of the public who are involved in any law enforcement or security matter on DLA property which requires DLA Police response or contact.

Annual Burden Hours: 225.

Number of Respondents: 450.

Average Burden per Response: 30 minutes.

Frequency: On occasion.

SUPPLEMENTARY INFORMATION:

Summary of Information Collection

This POLC system contains the following categories of records: Individual's name, address and telephone number; social security number (not in all matters); driver's license number; Reports of Preliminary Inquiry; Criminal Information Reports; Reports of Investigation; Police Incident Reports; Crime Vulnerability Assessments; statements of witnesses, subjects, and victims; photographs; data collection reports; and other related papers by DLA Police Officers, Federal, State, and local law enforcement and investigative agencies.

Dated: May 22, 2013.
Aaron Siegel,
Alternate OSD Federal Register Liaison Officer, Department of Defense.

[FR Doc. 2013-12549 Filed 5-24-13; 8:45 am]

BILLING CODE 5001-06-P